INTERNATIONAL TRADE COMMISSION

[Investigations Nos. 731-TA-910-912 (Final)]

Low Enriched Uranium From Germnay, the Netherlands, and the United Kingdom

AGENCY: United States International Trade Commission.

ACTION: Termination of investigations.

SUMMARY: On December 21, 2001, the Department of Commerce published notice in the Federal Register of negative final determinations of sales at less than fair value in connection with the subject investigations (66 FR 65886, December 21, 2001). Accordingly, pursuant to section 207.40(a) of the Commission's Rules of Practice and Procedure (19 CFR 207.40(a)), the antidumping investigations concerning low enriched uranium from Germany, the Netherlands, and the United Kingdom (investigations Nos. 731-TA-910-912 (Final)) are terminated.

EFFECTIVE DATE: December 21, 2001.

FOR FURTHER INFORMATION CONTACT: Bonnie Noreen (202-205-3167), Office of Investigations, U.S. International Trade Commission, 500 E Street SW., Washington, DC 20436. Hearing-impaired individuals are advised that information on this matter can be obtained by contacting the Commission's TDD terminal on 202-205-1810. Persons with mobility impairments who will need special assistance in gaining access to the Commission should contact the Office of the Secretary at 202-205-2000. General information concerning the Commission may also be obtained by accessing its Internet server (http://www.usitc.gov). The public record for these investigations may be viewed on the Commission's electronic docket (EDIS-ON-LINE) at http://dockets.usitc.gov/eol/public.

Authority: These investigations are being terminated under authority of title VII of the Tariff Act of 1930; this notice is published pursuant to section 201.10 of the Commission's rules (19 CFR 201.10).

By order of the Commission.
Issued: December 28, 2001.
Donna R. Koehnke,
Secretary.

[FR Doc. 02-138 Filed 1-2-02; 8:45 am]

BILLING CODE 7020-02-P